DEPARTMENT OF HEALTH AND HUMAN SERVICES

Centers for Disease Control and Prevention

[60 Day-17-0260; Docket No. CDC-2017-0050]

Proposed Data Collections Submitted for Public Comment and Recommendations

AGENCY: Centers for Disease Control and Prevention, Department of Health and Human Services (HHS).

ACTION: Notice with comment period.

SUMMARY: The Centers for Disease Control and Prevention (CDC), as part of its continuing efforts to reduce public burden and maximize the utility of government information, invites the general public and other Federal agencies to take this opportunity to comment on proposed and/or continuing information collections, as required by the Paperwork Reduction Act of 1995. This notice invites comment on a proposed revision of the information collection project titled “Health Hazard Evaluation and Technical Assistance—Requests and Emerging Problems.” This data collection supports legislatively mandated (PL 91-596) assistance investigating emerging occupational hazards in workplaces.

DATES: Written comments must be received on or before July 31, 2017.

ADDRESSES: You may submit comments, identified by Docket No. CDC-2017-0050 by any of the following methods:

• Federal eRulemaking Portal: Regulations.gov. Follow the instructions for submitting comments.

• Mail: Leroy A. Richardson, Information Collection Review Office, Centers for Disease Control and Prevention, 1600 Clifton Road NE., MS-D74, Atlanta, Georgia 30329.

Instructions: All submissions received must include the agency name and Docket Number. All relevant comments received will be posted without change to Regulations.gov, including any personal information provided. For access to the docket to read background documents or comments received, go to Regulations.gov.

Please note: All public comment should be submitted through the Federal eRulemaking portal (Regulations.gov) or by U.S. mail to the address listed above.

FOR FURTHER INFORMATION CONTACT: To request more information on the proposed project or to obtain a copy of the information collection plan and instruments, contact Leroy A. Richardson, Information Collection Review Office, Centers for Disease Control and Prevention, 1600 Clifton Road NE., MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to OMB for approval. To comply with this requirement, we are publishing this notice of a proposed data collection as described below.

Comments are invited on: (a) Whether the proposed collection of information is necessary for the proper performance of the functions of the agency, including whether the information shall have practical utility; (b) the accuracy of the agency's estimate of the burden of the proposed collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information.

Proposed Project

Health Hazard Evaluation and Technical Assistance—Requests and Emerging Problems (OMB Control No. 0920-0260, Expiration 11/30/2017)—Revision—National Institute for Occupational Safety and Health (NIOSH), Centers for Disease Control and Prevention (CDC).

Background and Brief Description

In accordance with its mandates under the Occupational Safety and Health Act of 1970 and the Federal Mine Safety and Health Act of 1977, the National Institute for Occupational Safety and Health (NIOSH) responds to requests for health hazard evaluations (HHE) to identify chemical, biological or physical hazards in workplaces throughout the United States. Each year, NIOSH receives approximately 290 such requests. Most HHE requests come from the following types of companies: service, manufacturing, health and social services, transportation, agriculture, mining, skilled trade and construction. NIOSH is requesting a three year approval time.

A printed Health Hazard Evaluation request form is available in English and in Spanish. The form is also available on the Internet and differs from the printed version only in format and in the fact that it can be submitted directly from the Web site. The request form takes an estimated 12 minutes to complete. The form provides the mechanism for employees, employers, and other authorized representatives to supply the information required by the regulations governing the NIOSH Health Hazard Evaluation program (42 CFR 85.3-1). If employees are submitting the form it must contain the signatures of three or more current employees. However, regulations allow a single signature if the requestor: is one of three (3) or fewer employees in the process, operation, or job of concern; or is any officer of a labor union representing the employees for collective bargaining purposes. An individual management official may request an evaluation on behalf of the employer. The information provided is used by NIOSH to determine whether there is reasonable cause to justify conducting an investigation and provides a mechanism to respond to the requestor.

NIOSH reviews the HHE request to determine if an on-site evaluation is needed. The primary purpose of an on-site evaluation is to help employers and employees identify and eliminate occupational health hazards. For 40% of the requests received NIOSH determines an on-site evaluation is needed. When an on-site evaluation is not done, NIOSH prepares and provides a written report after gathering information from the requester(s) and reviewing available exposure and health records.

In about 70% of on-site evaluations (presently estimated to be 122 facilities a year) employees are interviewed individually to learn about health problems and possible contributing factors at work. Interviews may take approximately 15 minutes per respondent. The interview questions are specific to each workplace and its suspected diseases and hazards. However, interviews are based on standard medical practices.

In approximately 30% of on-site evaluations that involve employee interviews (presently estimated to be 37 out of 122 facilities a year), questionnaires are distributed to the employees (averaging about 100 employees per site). Questionnaires may require approximately 30 minutes to complete. The survey questions are specific to each workplace and its suspected diseases and hazards, however, items in the questionnaires are derived from standardized or widely used medical and epidemiologic data collection instruments.

About 70% of the on-site evaluations involve employee exposure monitoring in the workplace. Employees who agree to participate wear a sampler or monitoring device to measure personal workplace exposures. They are offered the opportunity to get a written notice of their exposure results. To indicate their preference, employees complete a contact card. Completing a contact card may take 5 minutes or less. The number of employees monitored for workplace exposures per on-site evaluation may vary from none up to about 25. In some instances, however, the number can be much greater.

NIOSH distributes interim and final reports of health hazard evaluations, excluding personal identifiers, to: Requesters, employers, employee representatives; the Department of Labor (Occupational Safety and Health Administration or Mine Safety and Health Administration, as appropriate); state health departments; and, as needed, other state and federal agencies.

NIOSH administers a follow-back program to assess the effectiveness of its HHE program in reducing workplace hazards. NIOSH distributes follow-back questionnaires to the primary employer and employee representative at all the workplaces where NIOSH conducted an on-site evaluation. In a small number of instances, a follow-back on-site evaluation may be completed. The first follow-back questionnaire is distributed shortly after the first visit for an on-site evaluation and takes about 10 minutes to complete. A second follow-back questionnaire is distributed a month after the final report and requires about 20 minutes to complete. At 24 months, a third follow-back questionnaire is distributed which takes about 15 minutes to complete.

For requests where NIOSH does not conduct an on-site evaluation, the requestor receives the first follow-back questionnaire 1 month after our report and a second one 12 months after our response. The first questionnaire takes about 10 minutes to complete and the second questionnaire takes about 15 minutes to complete.

Because of the number of investigations conducted each year, the need to respond quickly to requests for assistance, the diverse and unpredictable nature of these investigations, and its follow-back program to assess evaluation effectiveness; NIOSH requests a consolidated clearance for data collections performed within the domain of its HHE program. There is no cost to respondents other than their time. The total estimated annual burden hours is 2,960.

Estimate of Annualized Burden Hours
Type of respondent | Form | Number of respondents | Number of responses per respondent | Average burden per response in hours | Total burden hours
Employees and Representatives | Health Hazard Evaluation Request Form | 203 | 1 | 12/60 | 41
Employers | Health Hazard Evaluation Request Form | 87 | 1 | 12/60 | 18
Employees | Health Hazard Evaluation specific interview example | 2,580 | 1 | 15/60 | 645
Employees | Health Hazard Evaluation specific questionnaire example | 3,700 | 1 | 30/60 | 1,850
Employees | Contact information post card | 2,150 | 1 | 5/60 | 180
Employees and Representatives; Employers—Year 1 (on-site evaluation) | First followback questionnaire Second followback questionnaire | 244 244 | 1 1 | 10/60 20/60 | 41 82
Employees and Representatives; Employers—Year 2 (on-site evaluation) | Third followback questionnaire | 244 | 1 | 15/60 | 61
Employees and Representatives; Employers—Year 1 (without on-site evaluation) | First followback questionnaire | 98 | 1 | 10/60 | 17
Employees and Representatives; Employers—Year 2 (without on-site evaluation) | Second followback questionnaire | 98 | 1 | 15/60 | 25
Total |  |  |  |  | 2,960

Leroy A. Richardson,
Chief, Information Collection Review Office, Office of Scientific Integrity, Office of the Associate Director for Science, Office of the Director, Centers for Disease Control and Prevention.

[FR Doc. 2017-11111 Filed 5-30-17; 8:45 am]

BILLING CODE 4163-18-P